DEPARTMENT OF TRANSPORTATION

Federal Aviation Administration

14 CFR Part 39

[Docket No. 2001-NE-50-AD; Amendment 39-14403; AD 2005-25-10]

RIN 2120-AA64

Airworthiness Directives; Dowty Propellers Type R321/4-82-F/8, R324/4-82-F/9, R333/4-82-F/12, and R334/4-82-F/13 Propeller Assemblies

AGENCY: Federal Aviation Administration (FAA), DOT.

ACTION: Final rule; request for comments.

SUMMARY: The FAA is superseding an existing airworthiness directive (AD) for Dowty Propellers Type R321/4-82-F/8, R324/4-82-F/9, R333/4-82-F/12, and R334/4-82-F/13 propeller assemblies. That AD currently requires initial and repetitive ultrasonic inspections of propeller hubs, part number (P/N) 660709201. This AD requires the same initial and repetitive ultrasonic inspections, but makes some needed corrections. This AD results from comments received on AD 2005-20-12. We are issuing this AD to prevent propeller hub failure due to cracks in the hub, which could result in loss of control of the airplane.

DATES: Effective December 27, 2005. The Director of the Federal Register previously approved the incorporation by reference of certain publications listed in the regulations as of July 27, 2004 (69 FR 34560, June 22, 2004) and October 28, 2005 (70 FR 59647, October 13, 2005).

We must receive any comments on this AD by February 10, 2006.

ADDRESSES: Use one of the following addresses to submit comments on this AD:

• By mail: Federal Aviation Administration (FAA), New England Region, Office of the Regional Counsel, Attention: Rules Docket No. 2001-NE-50-AD, 12 New England Executive Park, Burlington, MA 01803-5299.

• By fax: (781) 238-7055.

• By e-mail: 9-ane-adcomment@faa.gov.

Contact Dowty Propellers, Anson Business Park, Cheltenham Road East, Gloucester GL 29QN, UK; telephone 44 (0) 1452 716000; fax 44 (0) 1452 716001, for the service information referenced in this AD.

You may examine the AD docket, by appointment, at the FAA, New England Region, Office of the Regional Counsel, 12 New England Executive Park, Burlington, MA.

FOR FURTHER INFORMATION CONTACT: Terry Fahr, Aerospace Engineer, Boston Aircraft Certification Office, FAA, Engine and Propeller Directorate, 12 New England Executive Park, Burlington, MA 01803-5299; telephone (781) 238-7155; fax (781) 238-7170.

SUPPLEMENTARY INFORMATION: On September 26, 2005, we issued AD 2005-20-12, Amendment 39-14306 (70 FR 59647, October 13, 2005). That AD requires initial and repetitive ultrasonic inspections of propeller hubs, P/N 660709201. That AD was the result of a report of a hub separation on a CASA 212 airplane. That condition, if not corrected, could result in propeller hub failure due to cracks in the hub, which could result in loss of control of the airplane.

Comments

We provided the public the opportunity to comment on AD 2005-20-12. We have considered the comments received.

Allow Use of Appendix D

One commenter, the manufacturer, requests we allow operators and inspectors to also use Appendix D of the referenced service bulletins. We agree and added the use of Appendix D to this AD.

Request To Include Flight Cycle Limit

The same commenter requests we include a flight cycle limit in the repetitive inspection compliance for R334/4-82-F/13 propeller assemblies, to be consistent with the service bulletin. We agree and changed the repetitive ultrasonic inspection compliance to “within 300 flight hours time-since-last-inspection or 300 flight cycles-since-last inspection, whichever occurs sooner”.

Request To Correct the Manufacturer's Name

The same commenter requests we correct their former name of Dowty Aerospace Propellers, to their current name of Dowty Propellers. We agree and made the name change.

Request To Clarify Initial Inspection Compliance

The same commenter requests we revise paragraph (h) of AD 2005-20-12 to clarify that operators that previously complied with the initial inspection in paragraph (f) do not have to comply a second time to that initial inspection. We agree. For clarification, we revised the paragraph, moved it closer to the Compliance heading, and codified it as paragraph (f).

Conclusion

We have carefully reviewed the available data, including the comments received, and determined that air safety and the public interest require adopting the AD with the changes described previously.

Special Flight Permits Paragraph Removed

Paragraph (l) of the current AD, AD 2005-20-12, contains a paragraph pertaining to special flight permits. Even though this final rule does not contain a similar paragraph, we have made no changes with regard to the use of special flight permits to operate the airplane to a repair facility to do the work required by this AD. In July 2002, we published a new Part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Relevant Service Information

We have reviewed and approved the technical contents of Dowty Propellers Alert MSB No. 61-1119, Revision 4, dated September 14, 2005, that specifies initial and repetitive ultrasonic inspections of the rear wall of the rear half of the propeller hub for cracks on Type R334/4-82-F/13 propeller assemblies used on CASA 212 airplanes. The CAA classified this service bulletin as mandatory and issued CAA UK AD No. G-2005-0027, dated September 8, 2005, to assure the airworthiness of these Dowty Propellers in the U.K.

Differences Between This AD and the Service Information

Although Appendix A of Alert MSB No. 61-1119, Revision 4, dated September 14, 2005, requires reporting the inspection data to Dowty Propellers, this AD requires that you report the data to the Boston Aircraft Certification Office of the FAA.

Bilateral Airworthiness Agreement

These propeller models are manufactured in the U.K. and are type certificated for operation in the United States under the provisions of section 21.29 of the Federal Aviation Regulations (14 CFR 21.29) and the applicable bilateral airworthiness agreement. Under this bilateral airworthiness agreement, the CAA has kept the FAA informed of the situation described above. We have examined the findings of the CAA, reviewed all available information, and determined that AD action is necessary for products of this type design that are certificated for operation in the United States.

FAA's Determination and Requirements of This AD

The unsafe condition described previously is likely to exist or develop on other Dowty Propellers Type R321/4-82-F/8, R324/4-82-F/9, R333/4-82-F/12, and R334/4-82-F/13 propeller assemblies of the same type design. We are issuing this AD to prevent propeller hub failure due to cracks in the hub, which could result in loss of control of the airplane. This AD requires:

• Within 10 flight hours (FH) time-in-service (TIS) or 20 days after the effective date of this AD, whichever occurs earlier, performing an initial ultrasonic inspection of the rear halves of propeller hubs P/N 660709201, that are installed in Type R334/4-82-F/13 propeller assemblies, and;

• Within 50 FH TIS or 60 days after the effective date of this AD, whichever occurs earlier, performing an initial ultrasonic inspection of the rear halves of propeller hubs P/N 660709201, that are installed in Type R321/4-82-F/8, R324/4-82-F/9, and R333/4-82-F/12 propeller assemblies, and;

• Within 300 FH time-since-last-inspection (TSLI) or 300 flight cycles-since-last-inspection, whichever occurs sooner, performing a repetitive ultrasonic inspection of the rear halves of propeller hubs P/N 660709201, that are installed in Type R334/4-82-F/13 propeller assemblies, and;

• Within 1,000 FH TSLI performing a repetitive ultrasonic inspection of the rear halves of propeller hubs P/N 660709201, that are installed in Type R321/4-82-F/8, R324/4-82-F/9, and R333/4-82-F/12 propeller assemblies, and;

• If not already done, performing an ultrasonic inspection of the rear halves of propeller hubs P/N 660709201, that are installed in Type R321/4-82-F/8, R324/4-82-F/9, R333/4-82-F/12, and R334/4-82-F/13 propeller assemblies that are in storage before installing the propeller assembly onto an airplane.

You must use the service information specified in Table 2 of this AD to perform the inspections required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to submit any written relevant data, views, or arguments regarding this AD. Send your comments to an address listed under ADDRESSES. Include “AD Docket No. 2001-NE-50-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

Examining the AD Docket

You may examine the AD Docket (including any comments and service information), by appointment, between 8 a.m. and 4:30 p.m., Monday through Friday, except Federal holidays. See ADDRESSES for the location.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2001-NE-50-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-14306 (70 FR 59647, October 13, 2005), and by adding a new airworthiness directive, Amendment 39-59647, to read as follows:

2005-25-10 Dowty Propellers: Amendment 39-14403. Docket No. 2001-NE-50-AD.

Effective Date

(a) This airworthiness directive (AD) becomes effective December 27, 2005.

Affected ADs

(b) This AD supersedes AD 2005-20-12, Amendment 39-14306.

Applicability

(c) This AD applies to Dowty Propellers Type R321/4-82-F/8, and R324/4-82-F/9, R333/4-82-F/12 propeller assemblies with propeller hubs part number (P/N) 660709201, installed on, but not limited to, British Aerospace Regional Aircraft Jetstream Models 3101 and 3201, Fairchild Aircraft, Inc., Merlin IIIC, and Merlin IVC/Metro III airplanes, and to Type R334/4-82-F/13 propeller assemblies with hubs P/N 660709201, installed on Construcciones Aeronauticas, S.A. (CASA) 212 airplanes.

Unsafe Condition

(d) This AD results from comments received on AD 2005-20-12. We are issuing this AD to prevent propeller hub failure due to cracks in the hub, which could result in loss of control of the airplane.

Compliance

(e) You are responsible for having the actions required by this AD performed within the compliance times specified unless the actions have already been done.

(f) Propeller hubs, P/N 660709201, previously inspected using Dowty Mandatory Service Bulletins (MSBs) listed in Table 1 or an earlier issue of those MSBs, are already in compliance with paragraph (g) of this AD and do not need another initial inspection.

Table 1.—Applicable MSB for Propeller Type
Propeller assembly type | Initial inspection within the earlier of * * * | Repeat inspection within * * * | Applicable MSB
(1) R334/4-82-F/13 | 10 flight hours (FH) time-in-service (TIS) or 20 days after the effective date of this AD | 300 FH time-since-last-inspection (TSLI) or 300 flight cycles-since-last-inspection, whichever occurs sooner | Alert MSB No. 61-1119, Revision 4, dated September 14, 2005.
(2) R321/4-82-F/8 | 50 FH TIS or 60 days after the effective date of this AD | 1,000 FH TSLI | MSB No. 61-1125, Revision 1, dated October 9, 2002.
(3) R324/4-82-F/9 | 50 FH TIS or 60 days after the effective date of this AD | 1,000 FH TSLI | MSB No. 61-1126, Revision 1, dated October 9, 2002.
(4) R333/4-82-F/12 | 50 FH TIS or 60 days after the effective date of this AD | 1,000 FH TSLI. | MSB No. 61-1124, Revision 1, dated October 8, 2002.

Initial Ultrasonic Inspections

(g) Perform an initial ultrasonic inspection of the rear wall of the rear half of the propeller hub for cracks within the compliance time specified in the following Table 1. Use Appendix A or Appendix D of the applicable Dowty Mandatory Service Bulletin (MSB) listed in Table 1 of this AD.

(h) For hubs and propellers in storage, perform an initial ultrasonic inspection of the rear wall of the rear half of the propeller hub for cracks, before placing in service. Use Appendix A or Appendix D of the applicable Dowty MSB listed in Table 1 of this AD.

Repetitive Ultrasonic Inspections

(i) Thereafter, perform a repetitive ultrasonic inspection of the rear wall of the rear half of the propeller hub for cracks within the compliance time specified in Table 1 of this AD. Use Appendix A or Appendix D of the applicable Dowty Mandatory Service Bulletin (MSB) listed in Table 1 of this AD.

Inspection Reporting Requirements

(j) Within 10 days after each inspection, record the inspection data on a copy of Appendix B of the applicable MSB listed in Table 1 of this AD. Report the findings to the Manager, Boston Aircraft Certification Office, FAA, Engine and Propeller Directorate, 12 New England Executive Park, Burlington, MA 01803-5299. The Office of Management and Budget (OMB) approved the reporting requirements and assigned OMB control number 2120-0056.

Alternative Methods of Compliance

(k) The Manager, Boston Certification Office, has the authority to approve alternative methods of compliance for this AD if requested using the procedures found in 14 CFR 39.19.

Documents That Have Been Incorporated by Reference

(l) You must use the service information specified in Table 2 to perform the inspections required by this AD. The Director of the Federal Register previously approved the incorporation by reference of Dowty Mandatory Service Bulletin (MSB) No. 61-1124, Revision 1, dated October 8, 2002; MSB No. 61-1125, Revision 1, dated October 9, 2002, MSB 61-1126 and Revision 1, dated October 9, 2002 as of July 27, 2004 (69 FR 34560, June 22, 2004), and Dowty Alert (MSB) No. 61-1119, Revision 4, dated September 14, 2005, as of October 28, 2005 (70 FR 59647, October 13, 2005), in accordance with 5 U.S.C. 552(a) and 1 CFR part 51. Contact Dowty Propellers, Anson Business Park, Cheltenham Road East, Gloucester GL 29QN, UK; telephone 44 (0) 1452 716000; fax 44 (0) 1452 716001 for a copy of this service information. You may review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Table 2.—Incorporation by Reference
Service Bulletin No. | Page | Revision | Date
Alert MSB No. 61-1119 | All | 4 | September 14, 2005.
Appendix A | 1 | 1 | November 27, 2001.
| 2 | Original | November 1, 2001.
| 3-6 | 1 | November 27, 2001.
Appendix B | 1 | Original | November 1, 2001.
Appendix C | All | Original | November 27, 2001.
Appendix D | All | Original | December 6, 2001.
Total pages: 30
MSB No. 61-1124 | 1 | 1 | October 8, 2002.
| 2-3 | Original | May 7, 2002.
Appendix A | All | Original | May 7, 2002.
Appendix B | All | Original | May 7, 2002.
Appendix C | All | Original | May 7, 2002.
Appendix D | All | Original | May 7, 2002.
Total pages: 30
MSB No. 61-1125 | 1 | 1 | October 9, 2002.
| 2-3 | Original | May 7, 2002.
Appendix A | All | Original | May 7, 2002.
Appendix B | All | Original | May 7, 2002.
Appendix C | All | Original | May 7, 2002.
Appendix D | All | Original | May 7, 2002.
Total pages: 30
MSB No. 61-1126 | 1 | 1 | October 9, 2002.
| 2-3 | Original | May 7, 2002.
Appendix A | All | Original | May 7, 2002.
Appendix B | All | Original | May 7, 2002.
Appendix C | All | Original | May 7, 2002.
Appendix D | All | Original | May 7, 2002.
Total pages: 30

Related Information

(m) United Kingdom (U.K.) Civil Aviation Authority (CAA) airworthiness directives No. G-2005-0027, dated September 8, 2005; CAA UK AD No. 009-05-2002, dated April 15, 2003; CAA UK AD No. 010-05-2002, dated April 15, 2003; and CAA UK AD No. 011-05-2002, dated April 15, 2003, also addresses the subject of this AD.

Issued in Burlington, Massachusetts, on December 2, 2005.
Peter A. White,
Acting Manager, Engine and Propeller Directorate, Aircraft Certification Service.

[FR Doc. 05-23826 Filed 12-9-05; 8:45 am]

BILLING CODE 4910-13-P